NUCLEAR REGULATORY COMMISSION

[Docket No. 52-033; NRC-2008-0566]

DTE Electric Company (Formerly the Detroit Edison Company), Notice of Availability of Final Environmental Impact Statement for a Combined License for Unit 3 at the Enrico Fermi Atomic Power Plant Site

Notice is hereby given that the U.S. Nuclear Regulatory Commission (NRC) and the U.S. Army Corps of Engineers, Detroit District, have published NUREG-2105, “Final Environmental Impact Statement for the Combined License (COL) for Enrico Fermi Unit 3.” The site is located in Monroe County, Michigan. The application for the COL was submitted by letter dated September 18, 2008, pursuant to part 52 of Title 10 of the Code of Federal Regulations (10 CFR). A notice of receipt and availability of the application, which included the environmental report, was published in the Federal Register on October 10, 2008. A notice of acceptance for docketing of the COL application was published in the Federal Register on November 25, 2008. A notice of intent to prepare a draft environmental impact statement (EIS) and to conduct the scoping process was published in the Federal Register on December 10, 2008 (73 FR 75142).

SUPPLEMENTARY INFORMATION:

Accessing Information

Please refer to Docket ID NRC-2008-0566 when contacting the NRC about the availability of information regarding this document. You may access information related to this document, which the NRC possesses and are publicly-available, using any of the following methods:

• Federal Rulemaking Web site: Go to http://www.regulations.gov and search for Docket ID NRC-2008-0566. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The four volumes of the final EIS are available electronically under ADAMS Accession Numbers ML12307A172, ML12307A176, ML12307A177, and ML12347A202.

• NRC's PDR: You may examine and purchase copies of public documents at the NRC's PDR, Room O1-F21, One White Flint North, 11555 Rockville Pike, Rockville, Maryland 20852.

In addition, the final EIS can be accessed online at the NRC's Fermi Unit 3—specific Web page at http://www.nrc.gov/reactors/new-reactors/col/fermi.html. The Ellis Library and Reference Center, located at 3700 South Custer Road, Monroe, Michigan 48161-9716, has also agreed to make the final EIS available to the public.

FOR FURTHER INFORMATION CONTACT: Mr. Bruce Olson, Project Manager, Environmental Projects Branch 2, Division of New Reactor Licensing, Office of New Reactors, U.S. Nuclear Regulatory Commission, Washington, DC 20555-0001. Telephone: 301-415-3731; email: Bruce.Olson@nrc.gov.

Dated at Rockville, Maryland, this 10th day of January, 2013.
For the Nuclear Regulatory Commission.
Mark S. Delligatti,
Deputy, Director, Division of New Reactor Licensing, Office of New Reactors.

[FR Doc. 2013-00783 Filed 1-15-13; 8:45 am]

BILLING CODE 7590-01-P